DEPARTMENT OF THE INTERIOR

National Park Service

[NPS-IMR-GRCA-0906-8352; 8226-2004-318]

Information Collection Sent to the Office of Management and Budget (OMB) for Approval; Grand Canyon National Park Backcountry and River Permitting

AGENCY: National Park Service (NPS), Interior.

ACTION: Notice; request for comments.

SUMMARY: We (National Park Service) will ask the Office of Management and Budget (OMB) to approve the Information Collection (IC) described below (OMB Control No. 1024-New). As required by the Paperwork Reduction Act of 1995 and as part of our continuing efforts to reduce paperwork and respondent burden, we invite the general public and other Federal agencies to take this opportunity to comment on this IC. We may not conduct or sponsor, and a person is not required to respond to a collection of information unless it displays a currently valid OMB control number.

DATES: Public comments must be submitted on or before November 14, 2011.

ADDRESSES: Please send your comments about the ICR to Madonna L. Baucum, Information Collection Coordinator, WASO Administrative Program Center, National Park Service, 1201 Eye Street, NW., Room 1242, Washington, DC 20005 (mail); or Madonna_Baucum@nps.gov (e-mail). Please reference Grand Canyon National Park Backcountry and River Permitting.

FOR FURTHER INFORMATION CONTACT: Gigi Wright, Permits Office, Grand Canyon National Park, 1824 S. Thompson Street, Suite 201, Flagstaff, AZ 86001; gigi_wright@nps.gov (e-mail); or 928-638-7416 (phone). You are entitled to a copy of the entire ICR package free-of-charge.

SUPPLEMENTARY INFORMATION:

OMB Number: None. This is a new collection.

Title: Grand Canyon National Park Backcountry and River Permitting.

Service Form Number: None.

Type of Request: New.

Description of Respondents: Individuals interested in river use or overnight backcountry use within Grand Canyon National Park.

Respondent's Obligation: Required to obtain or retain a benefit.

Frequency of Collection: On occasion.

Estimated Number of Annual Responses: 72,486 (as shown below).

Annual Burden Hours: 7,763 hours as follows:

Description | Avg. time/ response (min) | Annual respondents | Annual responses | Total time in hours
Backcountry Permitting |  |  |  |
Backcountry Permit Request Form | 10 | 14,592 | 25,000 | 4,167
Hiker Information Form | 10 | 600 | 661 | 110
Water Report Form | 5 | 100 | 250 | 21
Commercial Guiding—Verifiable Client List Form | 10 | 14 | 529 | 88
River Permitting |  |  |  |
Create Online Profile | 7 | 4,000 | 4,000 | 467
Login Form | 1 | 11,000 | 25,000 | 417
Forgot Username/Password Form | 1 | 500 | 500 | 8
Lottery Application | 8 | 4,440 | 8,300 | 1,107
Accept Trip Form | 5 | 560 | 560 | 47
Noncommercial River Trip Application | 60 | 510 | 510 | 510
Trip Leader Trip Participant Form | 30 | 510 | 510 | 255
Confirm Trip Participation Form | 5 | 6,548 | 6,548 | 546
Diamond Creek Application | 10 | 87 | 118 | 20
|  | 43,461 | 72,486 | 7,763

Estimated Annual Nonhour Burden Cost: $0.

Purpose of Forms

Backcountry Permitting Forms

Backcountry Permit Request Form

The Backcountry Permit Request Form is required from individuals seeking a Backcountry Permit. It asks for the applicant's contact information, group size, itinerary being requested and acceptable variations, license plates of any trailhead vehicles, and payment information.

Hiker Information Form

The Hiker Information Form is required when the applicant has requested a solo hike, an itinerary considered overly ambitious for the typical hiker, or a summer hike outside the Corridor Zone. The form asks for information that has proven to be useful in finding and assisting groups who get into difficulties and need emergency assistance. This information includes description of gear, emergency contact information, description of self (if hiking solo), detailed hiking plans, and description of any significant health issues or medications for all group members.

Water Report Form

The Water Report Form is completely optional. It is used only when a hiker wishes to report their observations of where they found water while in the canyon. It includes the name of the reporting party, a description of where water was found, how much was available, and date observed.

Commercial Guiding—Verifiable Client List Form

The Verifiable Client List Form is required from a commercial guiding company each time they request a Backcountry Permit to take clients into the backcountry. It includes contact information for each client requesting participation on the trip.

River Permitting Forms

Create Online Profile Form

The Create Online Profile Form is required from individuals who wish to eventually submit an application in a lottery. This form asks for the applicant's legal name, date of birth, contact information, desired username, and desired password.

Login Form

The Login Form is required from individuals who wish to submit an application in an open lottery, obtain access to view their history of payments and applications, change contact information or preference, or accept or reject participation on others trips. The form asks for a username, password, and birthdate.

Forgot Username/Password Form

The Forgot Username/Password Form is required when a user has forgotten their username and/or password and wants either of these e-mailed to them. The user can request their username by entering their e-mail address, or they can request a new, computer generated password by entering their username.

Lottery Application Form

The Lottery Application Form is required to submit an application in a lottery. It allows the applicant to list 5 preferences for a launch date and trip size, and list Potential Alternate Trip Leaders.

Accept Trip Form

The Accept Trip Form is available only to those who win launches through the lottery and required if they wish to keep the trip. This form asks if they wish to keep the trip, and if so requires entry or verification of their mailing address. Once this form is complete, the user is given the option to go to a pay.gov form and pay a deposit.

Noncommercial River Trip Application Form

The Noncommercial River Trip Application Form is due 90 days before launch and required from those who have completed the Accept Trip Form. It asks for concurrence with the NPS requirements associated with the use of a noncommercial river permit and information about the qualified boat-operator, watercraft, safety equipment, and itinerary.

Trip Leader Trip Participant Form

The Trip Leader Trip Participant Form asks for the name, e-mail, and both the date and location when each individual participant will join or leave the river trip.

Confirm Trip Participation Form

All participants on noncommercial trips complete this form, indicating their intent to participate on the trip and recording their legal name and date of birth.

Diamond Creek Application

The Diamond Creek Application is required from individuals who wish to receive a permit to take a group down the Colorado River launching at Diamond Creek. The form asks for the applicant's contact information and proposed itinerary.

Abstract: These forms will provide public access on the Colorado River and overnight access into backcountry use areas within Grand Canyon National Park where use limits are imposed in accordance with NPS regulations. Such permitting improves the ability of the NPS to: educate users, promote public safety, encourage visitor enjoyment, enforce limits and regulations, verify technical river skills, conduct search and rescue efforts, collect fees, and promote visitation practices which preserve both the health of the environment and the quality of the overall backcountry experience. We will use collected information for recreational use planning and resource management. Some nonpersonal information will be aggregated and shared on the park's Web site with the public.

The National Park Service Organic Act of 1916, 38 Stat 535, 16 U.S.C. 1, et seq., requires that the NPS preserve national parks for the use and enjoyment of present and future generations. The Organic Act and its amendments afford the NPS latitude to make resource decisions that balance visitor recreation and resource preservation. NPS regulations codified in 36 CFR parts 1 through 7, 12, and 13 are designated to implement statutory mandates that provide for resource protection and public enjoyment.

Backcountry permit information is collected via paper forms, and river permit information is collected via a combination of an online system and paper forms.

Comments: Comments are invited on: (1) The practical utility of the information being gathered; (2) the accuracy of the burden hour estimate; (3) ways to enhance the quality, utility, and clarity of the information to be collected; and (4) ways to minimize the burden to respondents, including use of automated information techniques or other forms of information technology.

Please note that the comments submitted in response to this notice are a matter of public record. We will include or summarize each comment in our request to OMB to approve this IC. Before including your address, phone number, e-mail address, or other personal identifying information in your comment, you should be aware that your entire comment, including your personal identifying information, may be made publicly available at any time. While you can ask OMB in your comment to withhold your personal identifying information from public review, we cannot guarantee that it will be done.

Dated: September 6, 2011.
Robert M. Gordon,
Information Collection Clearance Officer, National Park Service.

[FR Doc. 2011-23161 Filed 9-9-11; 8:45 am]

BILLING CODE 4312-52-P